NEIGHBORHOOD REINVESTMENT CORPORATION

Sunshine Act Meetings: Regular Board of Directors Meeting

TIME AND DATE: 2:00 p.m., Tuesday, December 17, 2019.

PLACE: NeighborWorks America—Gramlich Boardroom 999 North Capitol Street, NE, Washington, DC 20002.

STATUS: Open (with the exception of Executive Session).

MATTERS TO BE CONSIDERED: The General Counsel of the Corporation has certified that in his opinion, one or more of the exemptions set forth in 5 U.S.C. 552 (b)(2) and (4) permit closure of the following portion(s) of this meeting:

• Report from CEO

Agenda

I. Call to Order

II. Approval of Minutes

III. Executive Session: Report from CEO

IV. Action Item Health Insurance Delegation of Authority in 2020

V. Action Item Wells Fargo Home Ownership Counseling Initiative

VI. Discussion Item Non-Core Funds

VII. Discussion Item Governance Working Group Report

VIII. Management Program Background and Updates

IX. Adjournment

CONTACT PERSON FOR MORE INFORMATION: Rutledge Simmons, EVP & General Counsel/Secretary, (202) 760-4105; Rsimmons@nw.org.

Rutledge Simmons,
EVP & General Counsel/Corporate Secretary.

[FR Doc. 2019-26383 Filed 12-3-19; 4:15 pm]

BILLING CODE 7570-02-P